DEPARTMENT OF ENERGY

Federal Energy Regulatory Commission

[Project No. 11509-009]

Notice of Request for Extension of Time To Commence and Complete Project Construction and Soliciting Comments

February 21, 2003.

Take notice that the following hydroelectric application has been filed with the Commission and is available for public inspection:

a. Type of Application: Request for extension of time.

b. Project No: 11509-009.

c. Date Filed: January 13, 2003.

d. Applicant: City of Albany, Oregon.

e. Name of Project: City of Albany Hydroelectric Project.

f. Location: The project is located on the Albany-Santiam Canal system in Linn County, Oregon.

g. Pursuant to: Public Law 107-376, H.R. 5436.

h. Applicant Contact: Peter Harr, P.E., City of Albany, City Hall, 333 Broadalbin, SW., P.O. Box 490, Albany, OR 97321-0144, (541) 917-7500.

i. FERC Contact: Any questions on this notice should be addressed to Mr. Lynn R. Miles, Sr. at (202) 502-8763.

j. Deadline for filing comments and or motions: March 21, 2003.

The Commission's rules of practice and procedure require all interveners filing documents with the Commission to serve a copy of that document on each person in the official service list for the project. Further, if an intervener files comments or documents with the Commission relating to the merits of an issue that may affect the responsibilities of a particular resource agency, they must also serve a copy of the document on that resource agency.

k. Description of Project: The licensee requests a two-year extension of time from the existing deadline of October 23, 2002, to October 23, 2004, to commence project construction of the City of Albany Hydroelectric Project. If granted, this would be the licensee's first 2-year extension of the three authorized by Public Law No. 107-376, H.R. 5436.

l. This filing is available for review at the Commission in the Public Reference Room or may be viewed on the Commission's Web site at http://www.ferc.gov using the “FERRIS” link. Enter the docket number excluding the last three digits in the docket number field to access the document. For assistance, call toll-free 1-866-208-3676 or e-mail ferconlineSupport@ferc.gov. For TTY, call (202) 502-8659. A copy is also available for inspection and reproduction at the address in item g. above.

m. Individuals desiring to be included on the Commission's mailing list should so indicate by writing to the Secretary of the Commission.

n. Comments, Protests, or Motions to Intervene—Anyone may submit comments, a protest, or a motion to intervene in accordance with the requirements of rules of practice and procedure, 18 CFR 385.210, .211, .214. In determining the appropriate action to take, the Commission will consider all protests or other comments filed, but only those who file a motion to intervene in accordance with the Commission's rules may become a party to the proceeding. Any comments, protests, or motions to intervene must be received on or before the specified comment date for the particular application.

o. Filing and Service of Responsive Documents—Any filings must bear in all capital letters the title “COMMENTS”, “NOTICE OF INTENT TO FILE COMPETING APPLICATION”, “COMPETING APPLICATION”, “PROTEST”, or “MOTION TO INTERVENE”, as applicable, and the Project Number of the particular application to which the filing refers. Any of the above-named documents must be filed by providing an original and eight copies to: The Secretary, Federal Energy Regulatory Commission, 888 First Street, NE., Washington, DC 20426. An additional copy must be sent to Director, Division of Hydropower Administration and Compliance, Federal Energy Regulatory Commission, at the above-mentioned address. A copy of any notice of intent, competing application or motion to intervene must also be served upon each representative of the Applicant specified in the particular application.

Comments, protests and interventions may be filed electronically via the Internet in lieu of paper; see 18 CFR 385.2001(a)(1)(iii) and the instructions on the Commission's Web site under the “e-Filing” link. The Commission strongly encourages electronic filings.

p. Agency Comments—Federal, state, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. 03-4703 Filed 2-26-03; 8:45 am]

BILLING CODE 6717-01-P